DEPARTMENT OF COMMERCE

National Oceanic and Atmospheric Administration

50 CFR Part 679

RIN 0648-BJ49

Fisheries of the Exclusive Economic Zone Off Alaska; Reclassifying Sculpin Species in the Groundfish Fisheries of the Bering Sea and Aleutian Islands and the Gulf of Alaska

AGENCY: National Marine Fisheries Service (NMFS), National Oceanic and Atmospheric Administration (NOAA), Commerce.

ACTION: Notice of availability; fishery management plan amendments; request for comments.

SUMMARY: The North Pacific Fishery Management Council submitted Amendment 121 to the Fishery Management Plan for Groundfish of the Bering Sea and Aleutian Islands Management Area (BSAI FMP) and Amendment 110 to the Fishery Management Plan for Groundfish of the Gulf of Alaska (GOA FMP) (collectively Amendments 121/110), to the Secretary of Commerce for review. If approved, Amendments 121/110 would reclassify sculpins in these fishery management plans (FMPs) under the ecosystem component (EC) category. This action is necessary to ensure sculpin species are accurately classified in the FMPs based on the best available scientific information. Amendments 121/110 are intended to promote the goals and objectives of the Magnuson-Stevens Fishery Conservation and Management Act, the FMPs, and other applicable laws.

DATES: Comments must be received no later than May 22, 2020.

ADDRESSES: You may submit comments on this document, identified by NOAA-NMFS-2020-0004, by any of the following methods:

• Electronic Submission: Submit all electronic public comments via the Federal e Rulemaking Portal. Go to www.regulations.gov/#!docketDetail;D=NOAA- NMFS-2020-0004, click the “Comment Now!” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the draft Environmental Assessment and the Regulatory Impact Review (collectively referred to as the “Analysis”) prepared for this proposed rule may be obtained from www.regulations.gov.

FOR FURTHER INFORMATION CONTACT: Megan Mackey, 907-586-7228.

SUPPLEMENTARY INFORMATION: The Magnuson-Stevens Fishery Conservation and Management Act (Magnuson-Stevens Act) requires that each regional fishery management council (council) submit any fishery management plan amendment it prepares to NMFS for review and approval, disapproval, or partial approval by the Secretary of Commerce (Secretary). The Magnuson-Stevens Act also requires that NMFS, upon receiving a fishery management plan amendment, immediately publish a notice in the Federal Register announcing that the amendment is available for public review and comment. This notice announces that proposed Amendments 121/110 are available for public review and comment.

NMFS manages the groundfish fisheries in the exclusive economic zone under the FMPs. The North Pacific Fishery Management Council (Council) prepared the FMPs under the authority of the Magnuson-Stevens Act, 16 U.S.C. 1801 et seq. Regulations governing U.S. fisheries and implementing the FMPs appear at 50 CFR parts 600 and 679.

Section 3.1.2 of the FMPs define two broad classifications for stocks or stock complexes (i.e., species or species groups). The first classification is for stocks “in the fishery” that include target stocks in need of conservation and management that fishers seek to catch, and non-target stocks in need of conservation and management that are caught incidentally during the pursuit of target stocks. The second classification is for EC species that do not require conservation and management, but may be listed in an FMP in order to achieve ecosystem management objectives. Under the groundfish FMPs, NMFS must establish an overfishing level (OFL), an acceptable biological catch (ABC), and a total allowable catch (TAC) for each stock or stock complex (i.e., species or species group) that is “in the fishery,” but not for those in the EC.

The FMPs define the OFL as the catch level above which overfishing is occurring for a species or species group. NMFS manages fisheries in an effort to ensure that no OFLs are exceeded in any year. The FMPs define the ABC as the level of a species or species group's annual catch that accounts for the scientific uncertainty in the estimate of OFL and any other scientific uncertainty. The FMPs define the TAC as the annual catch target for a species or species group, derived from the ABC by considering social and economic factors and management uncertainty.

In 2010, Amendments 96/87 to the BSAI and GOA FMPs, respectively, established the EC category and designated prohibited species (salmon, steelhead trout, crab, halibut, and herring) and forage fish species (as defined in Table 2c to 50 CFR part 679 and § 679.20(i)) as EC species in the groundfish FMPs. Additional detail is provided in the final rule implementing Amendments 96/87 (75 FR 61639, October 6, 2010).

In 2015, NMFS implemented Amendments 100/91 to the BSAI and GOA FMPs, respectively, to add grenadiers to the EC category (80 FR 11897, March 5, 2015). The Council and NMFS added grenadiers to the FMPs in the EC category because grenadiers did not require conservation and management, but acknowledged their role in the ecosystem and limited the groundfish fisheries' potential impact on grenadiers. Adding grenadiers to the EC category allowed for improved data collection and catch monitoring appropriate for grenadiers given their abundance, distribution, and catch. Additional detail is provided in the final rule implementing Amendments 100/91 (80 FR 11897, March 5, 2015).

In 2018, NMFS implemented Amendments 117/106 to the BSAI and GOA FMPs, respectively, to add squids to the FMPs in the EC category because they were, similar to grenadiers, determined not to require conservation and management. Additional detail is provided in the final rule implementing Amendments 117/106 (83 FR 31460, July 6, 2018).

Sculpins are currently classified as target species “in the fishery” in section 3.1.2 of the groundfish FMPs and directed fishing is allowed. However, sculpins are not a target species for any groundfish fishery in the BSAI or GOA. Sculpins are only caught incidentally to other target groundfish. Sculpins are incidentally caught primarily in the BSAI by trawl gear in directed fishing for yellowfin sole, rock sole, and Atka mackerel, as well as Pacific cod hook-and-line, pot, and trawl directed fishing (Table 3-4 and Table 3-5 of the Analysis). Sculpins are caught primarily in the GOA by Pacific cod, shallow-water flatfish directed fishing, and IFQ halibut fisheries (Table 3-6 of the Analysis).

For both the BSAI and GOA, sculpins are managed as a Tier 5 species, which is the least preferred method of specifying an overfishing limit when limited biological reference points are available. Only Tier 6 species, for which no biological reference points are available, are below Tier 5 in terms of limited information available. Nonetheless, specification of OFL for Tier 5 species reflects the best estimate possible for sculpins with the available data. As described in Section 3.2.3 of the Analysis, model estimates of sculpin abundance in the BSAI and GOA have been fairly stable over the years with no conservation concerns apparent.

Stock assessments provide the scientific basis for determining whether a stock is experiencing overfishing (i.e. when a stock's recent harvest rate exceeds sustainable levels) or overfished (i.e. already depleted), and for calculating a sustainable harvest rate and forecasting catches that correspond to that rate. For stocks in Tiers 4-6, no determination can be made of overfished status or approaching an overfished condition as information is insufficient to estimate the Maximum Sustainable Yield (MSY) stock level. Therefore, it is not possible to determine whether the sculpin complex is overfished or whether it is approaching an overfished condition because it is managed under Tier 5. However, in the absence of directed fishing, they are very unlikely to be overfished. Sculpins, in general, are not retained. As noted in Section 3.2.2 of the Analysis, sculpin catch has been substantially below ABC and OFL, and has been a small proportion of the biomass each year.

Section 302(h)(1) of the Magnuson-Stevens Act requires a council to prepare an FMP for each fishery under its authority that is in need of conservation and management. “Conservation and management” is defined in section 3(5) of the Magnuson-Stevens Act. The National Standard guidelines at 50 CFR 600.305(c) (revised on October 18, 2016, 81 FR 71858), provide direction for determining which stocks will require conservation and management and provide direction to regional councils and NMFS for how to consider these factors in making this determination. Specifically, the guidelines direct regional councils and NMFS to consider a non-exhaustive list of ten factors when deciding whether stocks require conservation and management.

Section 2.2.1 in the Analysis considers each of the 10 factors' relevance to sculpins. The analysis shows that while sculpins are currently classified as a target species in the FMPs, there has been no directed fishing for sculpins since they were included in the FMPs. Sculpins are not important to commercial, recreational, or subsistence users, nor are they important to the National or regional economy. There are no developing fisheries for sculpins in the EEZ off Alaska nor in waters of the State of Alaska. Because there is no directed fishing and incidental fishing-related mortality is low, there is very little probability that sculpins will become overfished. Sculpins are not in need of rebuilding, and are not targeted as a major food product in Alaska. There are no conservation concerns for sculpins since they are not targeted, are rarely retained, and future uses of sculpins remain available. Maintaining sculpins as a target species in the BSAI and GOA FMPs is not likely to change stock condition.

In October of 2019, the Council recommended and NMFS proposes Amendments 121/110 to reclassify sculpins as EC category species in the FMPs. Based on a review of the scientific information, and after considering the revised NS guidelines, the Council and NMFS determined that sculpins are not in need of conservation and management, and that classifying sculpins in the EC category is an appropriate action.

While the Council determined that sculpins are not in need of conservation and management as defined by the Magnuson-Stevens Act, and after considering the revised NS guidelines, the Council and NMFS determined that there are benefits to retaining sculpins as an EC species complex in the FMPs because they are a part of the ecosystem as benthic predators.

Amendments 121/110 would amend Section 3.1.2 of the FMPs to establish the sculpins EC species complex in the FMPs. Amendments 121/110 would allow NMFS to prohibit directed fisheries for sculpins and limit the retention and commercial exchange of sculpins. By virtue of being classified as EC species, catch specifications for sculpins (OFL, ABC, and TAC) would no longer be required.

NMFS is soliciting public comments on proposed Amendments 121/110 through the end of the comment period (see DATES). NMFS intends to publish in the Federal Register and seek public comment on a proposed rule that would implement Amendments 121/110, following NMFS' evaluation of the proposed rule under the Magnuson-Stevens Act.

Respondents do not need to submit the same comments on Amendments 121/110 and the proposed rule. All relevant written comments received by the end of the applicable comment period, whether specifically directed to the FMP amendments or the proposed rule will be considered by NMFS in the approval/disapproval decision for Amendments 121/110 and addressed in the response to comments in the final decision. Comments received after end of the applicable comment period will not be considered in the approval/disapproval decision on Amendments 121/110. To be considered, comments must be received, not just postmarked or otherwise transmitted, by the last day of the comment period (see DATES).

Authority: 16 U.S.C. 1801 et seq.

Dated: March 18, 2020.
Hélène M.N. Scalliet,
Acting Director, Office of Sustainable Fisheries, National Marine Fisheries Service.

[FR Doc. 2020-06065 Filed 3-20-20; 8:45 a.m.]

BILLING CODE 3510-22-P